DEPARTMENT OF HEALTH AND HUMAN SERVICES

[Document Identifier: OS-0990-0324]

Agency Information Collection Request: 30-Day Public Comment Request

AGENCY: Office of the Secretary, Health and Human Services (HHS).

ACTION: Notice.

SUMMARY: In compliance with the requirement of the Paperwork Reduction Act of 1995, the Office of the Secretary (OS), Department of Health and Human Services, is publishing the following summary of a proposed collection for public comment.

DATES: Comments on the information collection request (ICR) must be received on or before August 24, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 795-7714. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Resport of Dental Examination of Applicants to the Commissioned Corps of the U.S. Public Health Service.

Type of Collection: Reinstatement.

OMB No.: 0990-0324.

Abstract: The Commissioned Corps of the U.S. Public Health Service has a need for the information in order to assess the qualifications of each applicant and make a determination whether the applicant meets the requirements to receive a commission. The information is used to make determinations on candidates/applicants seeking appointment to the Corps to assess their medical suitability. The purpose is to evaluate the medical suitability of applicants on the basis of the Corps' medical accession standards and policy. The protected information is accessed by appropriate personnel and clinical reviewers. The form is not disclosed to external entities, other than for uses authorized by law.

Type of respondent; frequency (annual); Applicants/Candidates to the Commissioned Corps of the U.S. Public Health Service.

Estimated Annualized Burden Table
Type of respondent | Number of respondents | Number responses per respondent | Average burden per response (in hours) | Total burden hours
Annual | 1,000 | 1 | 1 | 1,000
Total | 1,000 | 1 | 1 | 1,000

Sherrette A. Funn,
Office of the Secretary, Paperwork Reduction Act Reports Clearance Officer.

[FR Doc. 2020-15928 Filed 7-22-20; 8:45 am]

BILLING CODE 4150-49-P